DEPARTMENT OF ENERGY

Federal Energy Regulatory Commission

Notice of Commission Staff Attendance

The Federal Energy Regulatory Commission (Commission) hereby gives notice that members of the Commission's staff may attend the following meeting related to the transmission planning activities of the PJM Interconnection, LLC (PJM):

PJM Planning Committee

March 12, 2015, 9:30 a.m.-12:00 p.m. (EST)

PJM Transmission Expansion Advisory Committee

March 12, 2015, 11:00 a.m.-3:00 p.m. (EST)

The above-referenced meetings will be held at: PJM Conference and Training Center, PJM Interconnection, 2750 Monroe Boulevard, Audubon, PA 19403.

The above-referenced meetings are open to stakeholders.

Further information may be found at www.pjm.com.

The discussions at the meeting described above may address matters at issue in the following proceedings:

Docket Nos. ER15-738 and ER15-739, PJM Interconnection, L.L.C.

Docket Nos. ER15-596, PJM Interconnection, L.L.C.

Docket Nos. ER15-33, et. al., The Dayton Power and Light Company

Docket No. ER15-994, PJM Interconnection, L.L.C.

Docket No. ER15-639, PJM Interconnection, L.L.C.

Docket No. ER15-61, PJM Interconnection, L.L.C. and American Transmission Systems Incorporated

Docket No. ER14-2867, Baltimore Gas & Electric Company, et al., and PJM Interconnection, L.L.C.

Docket No. ER14-972 and ER14-1485, PJM Interconnection, L.L.C.

Docket No. ER14-1485, PJM Interconnection, L.L.C.

Docket No. ER14-2864, PJM Interconnection, L.L.C.

Docket No. ER13-90, Public Service Electric and Gas Company and PJM Interconnection, L.L.C.

Docket No. ER13-198, PJM Interconnection, L.L.C.

Docket No. ER13-1960, ISO New England Inc. and New England Power Pool Participants Committee

Docket No. ER13-1957, ISO New England, Inc. et. al.

Docket No. ER13-195, Indicated PJM Transmission Owners

Docket No. ER13-1947, PJM Interconnection, L.L.C.

Docket No. ER13-1946, New York Independent System Operator, Inc.

Docket No. ER13-1945, Midcontinent Independent System Operator, Inc.

Docket No. ER13-1944, PJM Interconnection, L.L.C.

Docket No. ER13-1943, Midcontinent Independent System Operator, Inc.

Docket No. ER13-1942, New York Independent System Operator, Inc.

Docket No. ER13-1926, PJM Interconnection, L.L.C. and Duquesne Light Company

Docket No. ER13-1924, PJM Interconnection, L.L.C. and Duquesne Light Company

Docket No. EL15-40, Public Service Electric and Gas Company v. PJM Interconnection, L.L.C.

Docket No. EL15-18, Consolidated Edison Company of New York, Inc. v. PJM Interconnection, L.L.C.

Docket No. EL11-54, Buckeye Power, Inc. v. American Transmission Systems Incorporated

For more information, contact the following:

Jonathan Fernandez, Office of Energy Market Regulation, Federal Energy Regulatory Commission, (202) 502-6604, Jonathan.Fernandez@ferc.gov.

Alina Halay, Office of Energy Market Regulation, Federal Energy Regulatory Commission, (202) 502-6474, Alina.Halay@ferc.gov.

Dated: March 3, 2015.
Kimberly D. Bose,
Secretary.

[FR Doc. 2015-05391 Filed 3-6-15; 8:45 am]

BILLING CODE 6717-01-P